DEPARTMENT OF AGRICULTURE

Forest Service

Notice of Proposed New Fee Sites; Federal Lands Recreation Enhancement Act (Title VIII, Pub. L. 108-447)

AGENCY: Manti-La Sal National Forest, USDA Forest Service.

ACTION: Notice of proposed new fee sites.

SUMMARY: The Manti-La Sal National Forest is planning to charge fees at eleven recreation sites. All sites have recently been reconstructed or amenities added to improve services and experiences. Fees are assessed based on the level of amenities and services provided, cost of operation and maintenance, market assessment, and public comment. The fees listed are only proposed and will be determined upon further analysis and public comment. Funds from fees would be used for the continued operation and maintenance of these sites.

Indian Creek Guard Station and Seeley Guard Station will be available for overnight rental. A financial analysis is being completed to determine the rental fee but may range between $30 and $50 per night. Guard Stations rentals offer a unique experience and are a widely popular offering on National Forests. These Guard Stations have recently been restored. Fees would continue to help protect and maintain the Guard Stations.

The Manti-La Sal National Forest is proposing to charge a fee of $5 per vehicle per night at Twin Reservoir Fishing/Camping and an overnight fee of $5 per site at Mason Draw Campground, Oowah Lake Campground and Sand Flats Camping Area (Maloy Park). A $7 overnight fee per site is proposed at Fish Creek Campground and Trailhead. These sites are eligible under the Recreation Fee Enhancement Act to collect fees for continued operation and maintenance. A financial analysis is being completed to determine fee rates.

DATES: New fees would begin after April 2008 once a final decision is made and is listed with the National Reservation Service.

ADDRESSES: Rod Player, Acting Forest Supervisor, Manti-La Sal National Forest, 599 West Price River Drive, Price, UT 84501.

FOR FURTHER INFORMATION CONTACT: Ann King, Public Service Staff Officer, 435-636-3535. Information about proposed fees is posted at the individual campgrounds.

SUPPLEMENTARY INFORMATION: The Federal Recreation Lands Enhancement Act (Title VIII, Pub. L. 198-447) directed the Secretary of Agriculture to publish a six month advance notice in the Federal Register whenever new recreation fee areas are established. This new fee will be reviewed by the Regional Recreation Fee Board and by the Recreation Resource Advisory Committee prior to a final decision and implementation.

Dated: September 6, 2007.
Rod Player,
Acting Supervisor, Manti-La Sal National Forest .

[FR Doc. E7-18402 Filed 9-18-07; 8:45 am]

BILLING CODE 3410-11-P